DEPARTMENT OF STATE

[Public Notice 4864]

FY 2004 Funding Under the Research and Training for Eastern Europe and the Independent States of the Former Soviet Union Act of 1983 (Title VIII Program)

Deputy Secretary of State Richard L. Armitage approved on July 14, 2004, the FY 2004 funding recommendations of the Advisory Committee for the Study of Eastern Europe and the Independent States of the Former Soviet Union. The Title VIII Program, administered by the U.S. Department of State, seeks to build expertise on the countries of Eurasia and Central and East Europe through support to national organizations in the U.S. for advanced research, language and graduate training, and other activities conducted domestically and overseas. The FY 2004 grant recipients are listed below.

American Council of Learned Societies

Grant: $500,000 ($500,000-Southeast Europe).

Purpose: To support institutional language training in the U.S.; individual language training fellowships; dissertation fellowships; Junior Scholars' Training Seminar; and post-doctoral research fellowships.

Contact: Andrzej W. Tymowski, Director of International Programs American Council of Learned Societies, 633 Third Avenue, 8C, New York, NY 10017-6795, e-mail: atymowski@acls.org, tel: (212) 697-1505, ext. 145, Fax: (212) 949-8058.

American Councils for International Education

Grant: $525,000 ($425,000-Eurasia, $100,000-Southeast Europe).

Purpose: To support Research Scholar fellowships; Combined Research and Language Training fellowships on Eurasia; Special Initiatives Research fellowships on Central Asia and the Caucasus; individual language training fellowships for advanced Russian, regional Eurasian, and Southeast European languages.

Contact: Graham Hettlinger, Program Manager, American Councils for International Education, 1776 Massachusetts Avenue, NW., Suite 700, Washington, DC 20036, e-mail: hettlinger@actr.org, tel: (202) 833-7522, ext. 168, Fax: (202) 833-7523.

The William Davidson Institute of the University of Michigan Business School

Grant: $245,000 ($145,000-Eurasia; $100,000-Southeast Europe).

Purpose: To support grants for post-doctoral research projects on business development and public policy, and links between economic development and social, ethnic and religious conflict in Eurasia and Southeast Europe.

Contact: Kelly Janiga, Administrative Director, The William Davidson Institute, University of Michigan Business School, 724 East University Avenue, Ann Arbor, MI 48109-1234, e-mail: janigak@bus.umich.edu, tel: (734) 615-4562, Fax: (734) 763-5850.

University of Illinois at Urbana-Champaign

Grant: $137,000 ($99,000-Eurasia; $38,000-Southeast Europe).

Purpose: To support the Slavic Reference Service, which locates materials unavailable through regular interlibrary loan; and the Summer Research Laboratory, which provides dormitory housing and access to the University's library for advanced research.

Contact: Merrily Shaw, Assistant to the Director of the Russian and East European Center, Russian and East European Center, University of Illinois at Urbana-Champaign, 104 International Studies Building, 910 South Fifth Street, Champaign, IL 61820, e-mail: reec@uiuc.edu, tel: (217) 244-4721 or (217) 333-1244, Fax: (217) 333-1582.

George Mason University Institute for Conflict Analysis and Resolution

Grant: $60,000 ($60,000-Eurasia).

Purpose: To provide seed money in support of bringing together experts on conflict resolution with Eurasian area specialists for policy relevant workshops and a Conflict Resolution Conference, with a focus on Central Asia.

Contact: Karyna Korostelina, Ph.D., Research Professor, Institute for Conflict Analysis and Resolution, George Mason University, Institute for Conflict Analysis and Resolution, 4400 University Drive, MS 4D3, Fairfax, VA, 22030, e-mail: ckoroste@gmu.edu, tel: (703) 993-1304, Fax: (703) 993-1302.

International Research and Exchanges Board

Grant: $800,000 ($525,000—Eurasia; $275,000—Southeast Europe).

Purpose: To support Individual Advanced Research Opportunities providing pre- and post-doctoral research fellowships in Policy R&D; short-term travel grants, including fellowships with U.S. embassies; and the Regional Policy Symposium on Greater Asia, in conjunction with the Woodrow Wilson Center.

Contact: Joyce Warner, Director, Academic Exchanges and Research Division, International Research and Exchanges Board, 2121 K Street, NW., Suite 700, Washington, DC 20037, e-mail: jwarner@irex.org, tel: (202) 628-8188, Fax: (202) 628-8189.

National Council for Eurasian and East European Research

Grant: $1,140,000 ($846,000—Eurasia; $294,000—Southeast Europe).

Purpose: To support the research contracts and fellowship grants of the National Research Program, the Policy Research Fellowships, the Ed A. Hewett Fellowship Program, and the Short-term Research Fellowships.

Contact: Robert Huber, President, National Council for Eurasian and East European Research, 910 17th Street, NW., Suite 300, Washington, DC 20006, e-mail: dc@nceeer.org, tel: (202) 822-6950, Fax: (202) 822-6955.

Social Science Research Council

Grant: $795,000 ($795,000—Eurasia).

Purpose: To support pre-doctoral fellowships, including advanced graduate and dissertation fellowships; post-doctoral fellowships; one dissertation workshop; the Policy Training Seminar; and the institutional language programs for advanced Russian and other Eurasian languages.

Contact: Anthony Koliha, Assistant Director, Eurasia Program, Social Science Research Council, 810 7th Avenue, 31st Floor, New York, NY 10019, e-mail: koliha@ssrc.org, tel: (212) 377-2700, Fax: (212) 377-2727.

The Woodrow Wilson Center for International Scholars

Grant: $783,000 ($495,000—Eurasia; $288,000—AEEB).

Purpose: To support the residential programs for post-doctoral Research Scholars, Short-term Scholars and Interns; the Meetings Program for both the Kennan Institute and East European Studies Program; the Kennan Institute's Workshop on Religion in Post-Soviet Societies; and the East European Studies Program's Junior Scholars' Training Seminar with the American Council of Learned Societies.

Contact: Martin Sletzinger, Director, East European Studies, e-mail: sletzinm@wwic.si.edu, tel: (202) 691-4263 and Maggie Paxson, Senior Associate, Kennan Institute, e-mail: mpaxsonm@wwic.si.edu, tel: (202) 691-4100, The Woodrow Wilson Center, 1300 Pennsylvania Avenue, NW., Washington, DC 20004-3027, Fax: (202) 691-4247.

Dated: October 14, 2004.
Kenneth E. Roberts,
Executive Director, Advisory Committee for Study of Eastern Europe and the Independent States of the Former Soviet Union, Department of State.

[FR Doc. 04-26560 Filed 12-1-04; 8:45 am]

BILLING CODE 4710-32-P